DEPARTMENT OF AGRICULTURE

Forest Service

Olympic Provincial Advisory Committee (OPAC)

AGENCY: Forest Service, USDA.

ACTION: Notice of meeting.

SUMMARY: The Olympic Advisory Committee (OPAC) will meet on November 22, 2002. The meeting will be held at the Olympic National Forest Headquarters office at 1835 Black Lake Blvd. SW., Olympia, Washington. The meeting will begin at 9:30 a.m. and end at approximately 3:30 p.m. Agenda topics are: (1) Current status of key Forest issues; (2) Status update on the Resource Advisory Committees for Rural Schools and Community Self-Determination Act of 2000; (3) Consultation with Indian Tribes; (4) Social and Economic Monitoring of the Northwest Forest Plan; (5) Regional Ecosystem Office Update; (6) Road Management Update; (7) Olympic National Forest Northwest Forest Plan Monitoring Report Validation; (8) Open forum; and (9) Public comments.

All Olympic Province Advisory Committee Meetings are open to the public. Interested citizens are encouraged to attend.

FOR FURTHER INFORMATION CONTACT: Direct questions regarding this meeting to Ken Eldredge, Province Liaison, USDA, Olympic National Forest Headquarters, 1835 Black Lake Blvd., Olympia, WA 98512-5623, (360) 956-2323 or Dale Hom, Forest Supervisor, at (360) 956-2301.

Dated: October 21, 2002.
Dale Hom,
Forest Supervisor, Olympic National Forest.

[FR Doc. 02-27202 Filed 10-24-02; 8:45 am]

BILLING CODE 3410-11-M